EXPORT-IMPORT BANK

Sunshine Act Meeting

ACTION: Notice of a Partially Open Meeting of the Board of Directors of the Export-Import Bank of the United States.

Time and Place: Wednesday, May 3, 2006 at 9:30 a.m. The meeting will be held at Ex-Im Bank in Room 1143, 811 Vermont Avenue, NW., Washington, DC 20571.

Open Agenda Item: Co-Guarantee Program with the Small Business Administration.

Public Participation: The meeting will be open to public participation for Item No. 1.

FURTHER INFORMATION: For further information, contact: Office of the Secretary, 811 Vermont Avenue, NW., Washington, DC 205471 (Tele. No. 202-565-3957).

Howard A. Schweitzer,
General Counsel (Acting).

[FR Doc. 06-4153 Filed 4-28-06; 11:59 am]

BILLING CODE 6690-01-M